FEDERAL RESERVE SYSTEM

Notice of Proposals To Engage in or To Acquire Companies Engaged in Permissible Nonbanking Activities

The companies listed in this notice have given notice under section 4 of the Bank Holding Company Act (12 U.S.C. 1843) (BHC Act) and Regulation Y, (12 CFR part 225) to engage de novo, or to acquire or control voting securities or assets of a company, including the companies listed below, that engages either directly or through a subsidiary or other company, in a nonbanking activity that is listed in 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act.

Unless otherwise noted, comments regarding the notices must be received at the Reserve Bank indicated or the offices of the Board of Governors not later than April 27, 2015.

A. Federal Reserve Bank of San Francisco (Gerald C. Tsai, Director, Applications and Enforcement) 101 Market Street, San Francisco, California 94105-1579:

1. CITIC Group Corporation, Beijing, People's Republic of China; CITIC Glory Limited and CITIC Polaris Limited, both of Road Town, Tortola, British Virgin Islands; CITIC Limited, Hong Kong Special Administrative Region, People's Republic of China; and CITIC Corporation Limited, Beijing; to (i) retain CLSA Americas, LLC, New York, New York, and thereby engage in financial and investment advisory activities, and agency transactional services for customer investments, pursuant to sections 225.28(b)(6) and (b)(7), respectively; and (ii) engage de novo through CITIC Securities International USA, LLC, New York, New York, in financial and investment advisory activities, agency transactional services for customer investments, investment transactions as principal, and community development activities, pursuant to sections 225.28(b)(6), (b)(7), (b)(8), and (b)(12), respectively.

Board of Governors of the Federal Reserve System, April 7, 2015.
Michael J. Lewandowski,
Associate Secretary of the Board.

[FR Doc. 2015-08282 Filed 4-9-15; 8:45 am]

BILLING CODE 6210-01-P